DEPARTMENT OF HOMELAND SECURITY

U.S. Customs and Border Protection

[Docket No. USCBP-2023-0029]

Commercial Customs Operations Advisory Committee

AGENCY: U.S. Customs and Border Protection (CBP), Department of Homeland Security (DHS).

ACTION: Committee management; Notice of Open Federal advisory committee meeting.

SUMMARY: The Commercial Customs Operations Advisory Committee (COAC) will hold its quarterly meeting on Wednesday, December 13, 2023, in Washington, DC. The meeting will be open for the public to attend in person or via webinar. The in-person capacity is limited to 75 persons for public attendees.

DATES: The COAC will meet on Wednesday, December 13, 2023, from 1:00 p.m. to 5:00 p.m. EST. Please note that the meeting may close early if the committee has completed its business. Registration to attend and comments must be submitted no later than December 8, 2023.

ADDRESSES: The meeting will be held at the CBP Office of Training and Development, 1717 H Street NW, Washington, DC 20229—Classroom 7300A. For virtual participants, the webinar link and conference number will be posted by 5:00 p.m. EST on December 12, 2023, at https://www.cbp.gov/trade/stakeholder-engagement/coac. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2023-0029. To submit a comment, click the “Comment” button located on the top-left hand side of the docket page.

• Email: tradeevents@cbp.dhs.gov. Include Docket Number USCBP-2023-0029 in the subject line of the message.

Comments must be submitted in writing no later than December 8, 2023, and must be identified by Docket No. USCBP-2023-0029. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Ms. Felicia M. Pullam, Designated Federal Officer, at (202) 344-1440 or via email at tradeevents@cbp.dhs.gov.

SUPPLEMENTARY INFORMATION: Notice of this meeting is given under the authority of the Federal Advisory Committee Act, Title 5 U.S.C., ch. 10. The Commercial Customs Operations Advisory Committee (COAC) provides advice to the Secretary of the Department of Homeland Security, the Secretary of the Department of the Treasury, and the Commissioner of U.S. Customs and Border Protection (CBP) on matters pertaining to the commercial operations of CBP and related functions within the Department of Homeland Security and the Department of the Treasury.

Pre-Registration: Meeting participants may attend either in person or via webinar. All participants who plan to participate in person must register using the method indicated below:

For members of the public who plan to participate in person, please register online at https://cbptradeevents.certain.com/profile/15391 by 5:00 p.m. EST on December 11, 2023. For members of the public who are pre-registered to attend the meeting in person and later need to cancel, please do so by 5:00 p.m. EST on December 11, 2023, utilizing the following link: https://cbptradeevents.certain.com/profile/15391.

For members of the public who plan to participate via webinar, the webinar link and conference number will be posted by 5:00 p.m. EST on December 12, 2023, at https://www.cbp.gov/trade/stakeholder-engagement/coac.

The COAC is committed to ensuring that all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the AGENDA section below.

There will be a public comment period after each subcommittee update during the meeting on December 13, 2023. Speakers are requested to limit their comments to two minutes or less to facilitate greater participation. Please note that the public comment period for speakers may end before the time indicated on the schedule that is posted on the CBP web page: http://www.cbp.gov/trade/stakeholder-engagement/coac.

Agenda

The COAC will hear from the current subcommittees on the topics listed below:

1. The Intelligent Enforcement Subcommittee will provide updates on the work completed and topics discussed in its working groups as well as present proposed recommendations for COAC's consideration. The Antidumping/Countervailing Duty (AD/CVD) Working Group will provide updates regarding its work and discussions on importer compliance with AD/CVD requirements. The Bond Working Group will report on the ongoing discussions and status updates for eBond requirements and new guidance that CBP is developing for the trade community on setting bond amounts. The Intellectual Property Rights (IPR) Process Modernization Working Group will report on the development of a portal on the CBP IPR web page and other enhancements in communications between CBP, rights holders, and the trade community regarding enforcement actions, and anticipates providing proposed recommendations for the committee's consideration regarding these matters. The Forced Labor Working Group (FLWG) will report on the progress of the implementation of prior recommendations made by COAC and anticipates providing new proposed recommendations for the committee's consideration.

2. The Next Generation Facilitation Subcommittee will provide updates on its working groups. The Passenger Air Operations (PAO) Working Group continues focusing its discussions on CBP security seal processing (E-seals and badges), elimination of outdated or obsolete forms, and global entry/trusted traveler programs and will provide an update on those discussions. The Customs Interagency Industry Working Group (CII) continues to work on identifying data redundancies to improve efficiencies for the government and the trade. Although the Automated Commercial Environment (ACE) 2.0 Working Group has been on hiatus, they plan to meet during the quarter to have an internal review and will provide an update on ACE 2.0 and the remaining business case scenario status.

3. The Rapid Response Subcommittee will provide updates from the Broker Modernization Working Group and the United States-Mexico-Canada Agreement (USMCA) Chapter 7 Working Group. The Broker Modernization Working Group meets regularly and continues to focus on Continuing Education for Licensed Customs Brokers and the Customs Broker Licensing Exams. The USMCA Working Group meets bi-weekly with the expectation that proposed recommendations will be developed and submitted for consideration at the COAC public meeting. The current focus of this working group is to review the Chapter 7 articles of the USMCA and identify gaps in implementation between the United States, Mexico, and Canada.

4. The Secure Trade Lanes Subcommittee will provide updates on its six active working groups: the Export Modernization Working Group, the In-Bond Working Group, the Trade Partnership and Engagement Working Group, the Pipeline Working Group, the Cross-Border Recognition Working Group, and the De Minimis Working Group. The Export Modernization Working Group has continued its work on the electronic export manifest pilot program and recently brought in colleagues from the Canadian Border Services Agency to discuss required data elements. The In-Bond Working Group has continued its focus on the implementation of prior recommendations made by COAC. The Trade Partnership and Engagement Working Group has begun its work on the elements of the Customs Trade Partnership Against Terrorism (CTPAT) security program. The Pipeline Working Group has been discussing the most appropriate “next step” commodities and potential users of Distributed Ledger Technology to engage once the pilot for tracking pipeline-borne goods deploys. The Cross-Border Recognition Working Group began to meet again to develop tasks specific to its statement of work. The De Minimis Working Group has continued its work on strengthening the supply chain and mitigating risks in the low-value package environment.

Meeting materials will be available on December 4, 2023, at: http://www.cbp.gov/trade/stakeholder-engagement/coac/coac-public-meetings.

Dated: November 15, 2023.
Felicia M. Pullam,
Executive Director, Office of Trade Relations.

[FR Doc. 2023-25702 Filed 11-20-23; 8:45 am]

BILLING CODE 9111-14-P